DEPARTMENT OF COMMERCE

International Trade Administration

[A-570-826]

Continuation of Antidumping Duty Order: Paper Clips From the People's Republic of China

AGENCY: Import Administration, International Trade Administration, Department of Commerce.

ACTION: Notice of Continuation of Antidumping Duty Order: Paper Clips from the People's Republic of China.

SUMMARY: On July 5, 2000, the Department of Commerce (“the Department”), pursuant to sections 751(c) and 752 of the Tariff Act of 1930, as amended (“the Act”), determined that revocation of the antidumping duty order on paper clips from the People's Republic of China (“China”), is likely to lead to continuation or recurrence of dumping. See 65 FR 41434 (July 5, 2000).

On August 2, 2000, the International Trade Commission (“the Commission”), pursuant to section 751(c) of the Act, determined that revocation of the antidumping duty order on paper clips from China would be likely to lead to continuation or recurrence of material injury to an industry in the United States within a reasonably foreseeable time. See 65 FR 47518 (August 2, 2000). Therefore, pursuant to 19 CFR 351.218(f)(4), the Department is publishing notice of the continuation of the antidumping duty order on paper clips from China.

EFFECTIVE DATE: August 15, 2000.

For Further Information Contact: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On December 1, 1999, the Department initiated, and the Commission instituted, sunset reviews (64 FR 67247 and 64 FR 67320) of the antidumping duty order on paper clips from China, pursuant to section 751(c) of the Act. As a result of its review, the Department found on July 5, 2000, that revocation of the antidumping duty order on paper clips from China would likely lead to continuation or recurrence of dumping and notified the Commission of the magnitude of the margins likely to prevail were the order revoked. See 65 FR 41434 (July 5, 2000).

On August 2, 2000, the Commission determined, pursuant to section 751(c) of the Act, that revocation of the antidumping duty order on paper clips from China would be likely to lead to continuation or recurrence of material injury to an industry in the United States within a reasonably foreseeable time. See Paper Clips From China, 65 FR 47518 (August 2, 2000) and USITC Publication 3330 (July 2000), Investigation No. 731-TA-663 (Review).

Scope

The products covered by this order are certain paper clips, wholly of wire of base metal, whether or not galvanized, whether or not plated with nickel or other base metal (e.g., copper), with a wire diameter between 0.025 inches and 0.075 inches (0.64 to 1.91 millimeters), regardless of physical configuration, except as specifically excluded. The products subject to this order may have rectangular or ring-like shape and include, but are not limited to, clips commercially referred to as No. 1 clips, No. 3 clips, Jumbo or Giant clips, Gem clips, Frictioned clips, Perfect Gems, Marcel Gems, Universal clips, Nifty clips, Peerless clips, Ring clips, and Glide-On clips. Specifically excluded from the scope of this order are plastic and vinyl covered paper clips, butterfly clips, binder clips, or other paper fasteners that are not made wholly of wire of base metal and are covered under a separate subheading of the Harmonized Tariff Schedule of the United States (“HTSUS”). The products subject to this order are currently classifiable under subheading 8305.90.3010 of the HTSUS. Although the HTSUS subheadings is provided for convenience and customs purposes, our written description of the scope of this proceeding is dispositive.

Determination

As a result of the determination by the Department and the Commission that revocation of the antidumping duty order would be likely to lead to continuation or recurrence of dumping and material injury to an industry in the United States, pursuant to section 751(d)(2) of the Act, the Department hereby orders the continuation of the antidumping duty order on paper clips from China. The Department will instruct the U.S. Customs Service to continue to collect antidumping duty deposits at the rates in effect at the time of entry for all imports of subject merchandise. The effective date of continuation of this order will be the date of publication in the Federal Register of this Notice of Continuation. Pursuant to section 751(c)(2) and 751 (c)(6) of the Act, the Department intends to initiate the next five-year review of this order not later than July 2005.

Dated: August 9, 2000.
Troy H. Cribb,
Acting Assistant Secretary for Import Administration.

[FR Doc. 00-20691 Filed 8-14-00; 8:45 am]

BILLING CODE 3510-DS-P